DEPARTMENT OF TRANSPORTATION

Federal Aviation Administration

14 CFR Part 39

[Docket No. FAA-2013-0210; Directorate Identifier 2012-NM-053-AD]

RIN 2120-AA64

Airworthiness Directives; The Boeing Company Airplanes

AGENCY: Federal Aviation Administration (FAA), DOT.

ACTION: Notice of proposed rulemaking (NPRM).

SUMMARY: We propose to supersede an existing airworthiness directive (AD) that applies to certain The Boeing Company Model MD-11 and MD-11F airplanes. The existing AD currently requires inspecting to determine if wires touch the upper surface of the center upper auxiliary fuel tank, and marking the location, as necessary; inspecting all wire bundles above the center upper auxiliary fuel tank for splices and damage; inspecting for damage to the fuel vapor barrier seal and upper surface of the center upper auxiliary fuel tank; and performing corrective actions, as necessary. The existing AD also requires installing nonmetallic barrier/shield sleeving, new clamps, new attaching hardware, and a new extruded channel. The existing AD resulted from fuel system reviews conducted by the manufacturer. Since we issued that AD, we have identified additional center upper auxiliary fuel tank locations where inspections and corrective actions are needed. We are proposing this AD to reduce the potential of ignition sources inside fuel tanks, which, in combination with flammable fuel vapors, could result in fuel tank explosions and consequent loss of the airplane.

DATES: We must receive comments on this proposed AD by April 29, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Boeing Commercial Airplanes, Attention: Data & Services Management, 3855 Lakewood Boulevard, MC D800-0019, Long Beach, CA 90846-0001; telephone 206-544-5000, extension 2; fax 206-766-5683; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Samuel Lee, Aerospace Engineer, Propulsion Branch, ANM-140L, FAA, Los Angeles Aircraft Certification Office, 3960 Paramount Boulevard, Lakewood, CA 90712-4137; phone: (562) 627-5262; fax: (562) 627-5210; email: samuel.lee@faa.gov.

SUPPLEMENTARY INFORMATION:

Comments Invited

We invite you to send any written relevant data, views, or arguments about this proposed AD. Send your comments to an address listed under the ADDRESSES section. Include “Docket No. FAA-2013-0210; Directorate Identifier 2012-NM-053-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On December 16, 2009, we issued AD 2009-26-16, Amendment 39-16155 (74 FR 69249, December 31, 2009), for certain McDonnell Douglas Corporation Model MD-11 and MD-11F airplanes. That AD requires inspecting to determine if wires touch the upper surface of the center upper auxiliary fuel tank, and marking the location, as necessary; inspecting all wire bundles above the center upper auxiliary fuel tank for splices and damage; inspecting for damage to the fuel vapor barrier seal and upper surface of the center upper auxiliary fuel tank; and corrective actions, as necessary. That AD also requires installing nonmetallic barrier/shield sleeving, new clamps, new attaching hardware, and a new extruded channel. That AD resulted from fuel system reviews conducted by the manufacturer. We issued that AD to reduce the potential of ignition sources inside fuel tanks, which, in combination with flammable fuel vapors, could result in fuel tank explosions and consequent loss of the airplane.

Actions Since AD 2009-26-16, Amendment 39-16155 (74 FR 69249, December 31, 2009), Was Issued

AD 2009-26-16, Amendment 39-16155 (74 FR 69249, December 31, 2009) refers to Boeing Service Bulletin MD11-28-126, Revision 1, dated June 18, 2009, as the appropriate source of service information for the required actions. Boeing has since revised this service information. We have reviewed Boeing Service Bulletin MD11-28-126, Revision 4, dated November 29, 2011, which added additional work for certain airplanes. This additional work includes inspecting an additional wire bundle and installing additional sleeving, clamping, and an extruded channel over the center upper auxiliary fuel tank.

Relevant Service Information

We have reviewed Boeing Service Bulletin MD11-28-126, Revision 4, dated November 29, 2011. For information on the procedures and compliance times, see this service information at http://www.regulations.gov by searching for Docket No. FAA-2013-0210.

FAA's Determination

We are proposing this AD because we evaluated all the relevant information and determined the unsafe condition described previously is likely to exist or develop in other products of these same type designs.

Proposed AD Requirements

This proposed AD would retain all of the requirements of AD 2009-26-16, Amendment 39-16155 (74 FR 69249, December 31, 2009). This proposed AD would also require accomplishing the actions specified in the service information identified previously, except as discussed under “Differences Between the AD and the Service Information.”

The phrase “related investigative actions” might be used in this proposed AD. “Related investigative actions” are follow-on actions that: (1) Are related to the primary actions, and (2) are actions that further investigate the nature of any condition found. Related investigative actions in an AD could include, for example, inspections.

In addition, the phrase “corrective actions” might be used in this proposed AD. “Corrective actions” are actions that correct or address any condition found. Corrective actions in an AD could include, for example, repairs.

Differences Between the Proposed AD and the Service Information

The Accomplishment Instructions of Boeing Service Bulletin MD11-28-126, Revision 4, dated November 29, 2011, specify to contact Boeing for additional inspection and repair instructions, but this proposed AD would require operators to perform those actions using a method approved by the FAA.

Costs of Compliance

We estimate that this proposed AD affects 125 airplanes of U.S. registry.

We estimate the following costs to comply with this proposed AD:

Estimated Costs
Action | Labor cost | Parts cost | Cost per product | Cost on U.S. operators
Inspection/installation retained [actions from existing AD 2009-26-16, Amendment 39-16155 (74 FR 69249, December 31, 2009] | 168 to 182 work-hours × $85 per hour = $14,280 to $15,470 per inspection cycle | $9,405 to $12,201 | $23,685 to $27,671 per inspection cycle | $2,865,885 to $3,348,191 per inspection cycle.
Inspection/installation Groups 1, 2, and 5, all Configuration 2 airplanes [new proposed action] | Up to 9 work-hours × $85 per hour = $765 | $2,863 | Up to $3,628 | Up to $438,988.
Inspection/installation Group 6 airplanes [new proposed action] | 13 work-hours × $85 per hour = $1,105 | $7,932 | $9,037 | $36,148.

We have received no definitive data that would enable us to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-26-16, Amendment 39-16155 (74 FR 69249, December 31, 2009), and adding the following new AD:

The Boeing Company: Docket No. FAA-2013-0210; Directorate Identifier 2012-NM-053-AD.

(a) Comments Due Date

The FAA must receive comments on this AD action by April 29, 2013.

(b) Affected ADs

This AD supersedes AD 2009-26-16, Amendment 39-16155 (74 FR 69249, December 31, 2009).

(c) Applicability

This AD applies to The Boeing Company Model MD-11 and MD-11F airplanes, certificated in any category, as identified in Boeing Service Bulletin MD11-28-126, Revision 4, dated November 29, 2011.

(d) Subject

Joint Aircraft System Component (JASC)/Air Transport Association (ATA) of America Code 28, Fuel.

(e) Unsafe Condition

This AD was prompted by fuel system reviews conducted by the manufacturer. We are issuing this AD to reduce the potential of ignition sources inside fuel tanks, which, in combination with flammable fuel vapors, could result in fuel tank explosions and consequent loss of the airplane.

(f) Compliance

Comply with this AD within the compliance times specified, unless already done.

(g) Retained Inspection and Corrective Action

This paragraph restates the requirements of paragraph (g) of AD 2009-26-16, Amendment 39-16155 (74 FR 69249, December 31, 2009), with revised service information. For airplanes identified in Boeing Service Bulletin MD11-28-126, Revision 1, dated June 18, 2009: Within 60 months after February 4, 2010 (the effective date of AD 2009-26-16), do the actions specified in paragraphs (g)(1) through (g)(5) of this AD, and do all applicable corrective actions, in accordance with the Accomplishment Instructions of Boeing Service Bulletin MD11-28-126, Revision 1, dated June 18, 2009; or Boeing Service Bulletin MD11-28-126, Revision 4, dated November 29, 2011; except as required by paragraph (j) of this AD. After the effective date of this AD, only Boeing Service Bulletin MD11-28-126, Revision 4, dated November 29, 2011, may be used. Do all applicable corrective actions before further flight.

(1) Do a general visual inspection of the wire bundles between Stations 1238.950 and 1361.000 to determine if wires touch the upper surface of the center upper auxiliary fuel tank, and mark the location, as applicable.

(2) Do a detailed inspection for splices and damage of all wire bundles above the center upper auxiliary fuel tank between Stations 1218.950 and 1381.000.

(3) Do a detailed inspection for damage (burn marks) of the upper surface of the center upper auxiliary fuel tank.

(4) Do a detailed inspection for damage (burn marks) on the fuel vapor barrier seal.

(5) Install a nonmetallic barrier/shield sleeving, new clamps, new attaching hardware, and a new extruded channel.

(h) New Inspections and Corrective Action for Group 1, Configuration 2; Group 2, Configuration 2; and Group 5, Configuration 2 Airplanes

For airplanes in Group 1, Configuration 2; Group 2, Configuration 2; and Group 5, Configuration 2; as identified in Boeing Service Bulletin MD11-28-126, Revision 4, dated November 29, 2011: Within 60 months after the effective date of this AD, do a detailed inspection of wire bundles for splices and damage (chafing, arcing, and broken insulation) and damage (burn marks) on the upper surface of the center upper auxiliary fuel tank and fuel vapor barrier seal; install barrier/shield sleeving and clamping; and do all applicable corrective actions at the locations specified in paragraphs (h)(1) through (h)(3) of this AD, in accordance with the Accomplishment Instructions of Boeing Service Bulletin MD11-28-126, Revision 4, dated November 29, 2011, except as required by paragraph (k)(3) of this AD. Do all applicable corrective actions before further flight.

(1) For Group 1, Configuration 2 airplanes: between Stations 1238.950 and 1381.000, and Stations 1238.950 and 1256.000, and Stations 1238.950 and 1256.800, depending on passenger or freighter configuration.

(2) For Group 2, Configuration 2 airplanes: between Stations 1238.950 and 1275.250, and Stations 1238.950 and 1275.250, passenger configuration only.

(3) For Group 5, Configuration 2 airplanes: between Stations 1381.000 and 1238.950.

(i) Credit for Previous Actions

(1) This paragraph provides credit for actions required by paragraph (g) of this AD, if those actions were performed before the effective date of this AD, using the service bulletins specified in paragraphs (i)(1)(i), (i)(1)(ii), or (i)(1)(iii) of this AD.

(i) Boeing Service Bulletin MD11-28-126, Revision 1, dated June 18, 2009.

(ii) Boeing Service Bulletin MD11-28-126, Revision 2, dated November 18, 2010, which is not incorporated by reference in this AD.

(iii) Boeing Service Bulletin MD11-28-126, Revision 3, dated June 3, 2011, which is not incorporated by reference in this AD.

(2) This paragraph provides credit for actions required by paragraph (h) of this AD, if those actions were performed before the effective date of this AD, using Boeing Service Bulletin MD11-28-126, Revision 3, dated June 3, 2011.

(j) Repair

Where Boeing Service Bulletin MD11-28-126, Revision 1, dated June 18, 2009; or Boeing Service Bulletin MD11-28-126, Revision 4, dated November 29, 2011; specifies to contact The Boeing Company for repair instructions: Before further flight, repair the auxiliary fuel tank in accordance with a method approved by the Manager, Los Angeles Aircraft Certification Office (ACO), FAA. For a repair method to be approved, the repair must meet the certification basis of the airplane, and the approval must specifically refer to this AD.

(k) Alternative Methods of Compliance (AMOCs)

(1) The Manager, Los Angeles ACO, FAA, has the authority to approve AMOCs for this AD, if requested using the procedures found in 14 CFR 39.19. In accordance with 14 CFR 39.19, send your request to your principal inspector or local Flight Standards District Office, as appropriate. If sending information directly to the manager of the Los Angeles ACO, send it to the attention of the person identified in the Related Information section of this AD.

(2) Before using any approved AMOC, notify your appropriate principal inspector, or lacking a principal inspector, the manager of the local flight standards district office/certificate holding district office.

(3) An AMOC that provides an acceptable level of safety may be used for any repair required by this AD if it is approved by Structures Authorized Representative for the Boeing Commercial Airplanes Delegation Option Authorization Organization who has been authorized by the Manager, Los Angeles ACO, to make those findings. For a repair method to be approved, the repair must meet the certification basis of the airplane, and 14 CFR 25.571, Amendment 45, and the approval must specifically refer to this AD.

(4) AMOCs approved for AD 2009-26-16, Amendment 39-16155 (74 FR 69249, December 31, 2009), are approved as AMOCs for the corresponding requirements of this AD.

(l) Related Information

(1) For more information about this AD, contact Samuel Lee, Aerospace Engineer, Propulsion Branch, ANM-140L, FAA, Los Angeles Aircraft Certification Office, 3960 Paramount Boulevard, Lakewood, CA 90712-4137; phone: (562) 627-5262; fax: (562) 627-5210; email: samuel.lee@faa.gov.

(2) For service information identified in this AD, contact Boeing Commercial Airplanes, Attention: Data & Services Management, 3855 Lakewood Boulevard, MC D800-0019, Long Beach, CA 90846-0001; telephone 206-544-5000, extension 2; fax 206-766-5683; Internet https://www.myboeingfleet.com. You may review copies of the referenced service information at the FAA, Transport Airplane Directorate, 1601 Lind Avenue SW., Renton, Washington. For information on the availability of this material at the FAA, call 425-227-1221.

Issued in Renton, Washington, on March 8, 2013.
Ali Bahrami,
Manager, Transport Airplane Directorate, Aircraft Certification Service.

[FR Doc. 2013-05864 Filed 3-13-13; 8:45 am]

BILLING CODE 4910-13-P